DEPARTMENT OF HOMELAND SECURITY

U.S. Customs and Border Protection

[Docket No. USCBP-2018-0045]

Public Meeting: 21st Century Customs Framework

AGENCY: U.S. Customs and Border Protection (CBP), Department of Homeland Security (DHS).

ACTION: Notice of public meeting and request for public comments.

SUMMARY: U.S. Customs and Border Protection (CBP) is cognizant of the need to stay modern in order to meet the challenges of an evolving trade landscape. New actors, industries, and modes of conducting business have emerged, disrupting the traditional global supply chain. To continue to effectively fulfill CBP's mission, CBP is pursuing an initiative titled “The 21st Century Customs Framework.” “The 21st Century Customs Framework” will seek to address and enhance numerous aspects of CBP's trade mission to better position CBP to operate in the 21st century trade environment. Through preliminary efforts, CBP has identified key themes for which CBP seeks public input: Emerging Roles in the Global Supply Chain, Intelligent Enforcement, Cutting-Edge Technology, Data Access and Sharing, 21st Century Processes, and Self-Funded Customs Infrastructure. To that end, CBP is announcing a public meeting to discuss these themes. CBP will use the public comments received in response to this notice to initiate discussion at the public meeting for CBP to consider possible policy, regulatory, and statutory improvements to further the trade mission. CBP is already pursuing related efforts through the Border Interagency Executive Council and the Commercial Customs Operations Advisory Committee and is ensuring coordination among these initiatives.

DATES: Meeting: The meeting to discuss “The 21st Century Customs Framework” will be held on Friday, March 1, 2019, from 9:00 a.m. to 5:00 p.m. EST.

Pre-registration: Members of the public wishing to attend the meeting whether in-person or via teleconference must register as indicated in the Addresses section by 5:00 p.m. EST, February 4, 2019.

Cancellation of pre-registration: Members of the public who are pre-registered to attend in-person or via teleconference and later need to cancel, please do so by 5:00 p.m. EST, February 22, 2019.

Submission of comments: Members of the public wishing to submit comments must do so by 5:00 p.m. EST, February 4, 2019 by the methods described in the Addresses section.

ADDRESSES: Meeting: The meeting will be conducted in-person and via teleconference. The in-person meeting will be held at the U.S. International Trade Commission, 500 E Street SW, Washington, DC 20436. The teleconference number will be provided to all registrants by 5:00 p.m. EST on February 28, 2019. For information on services for individuals with disabilities or to request special assistance at the meeting, contact Mr. Brandon Lord, Office of Trade, U.S. Customs & Border Protection, at (202) 325-6432 or email, 21CCF@cbp.dhs.gov as soon as possible.

Pre-registration: Meeting participants may attend either in-person or via teleconference after pre-registering using one of the methods indicated below. All in-person attendees must pre-register by 5:00 p.m. EST, February 4, 2019; on-site registration is not permitted.

For members of the public who plan to attend the meeting in-person, please register online at https://teregistration.cbp.gov/index.asp?w=145.

For members of the public who plan to participate via teleconference, please register online at https://teregistration.cbp.gov/index.asp?w=146 by 5:00 p.m. EST, February 4, 2019.

Please feel free to share this information with other interested members of your organization or association.

Members of the public who are pre-registered to attend and later need to cancel, please do so by 5:00 p.m. EST, February 22, 2019, utilizing the following links: https://teregistration.cbp.gov/cancel.asp?w=145 to cancel an in-person registration or https://teregistration.cbp.gov/cancel.asp?w=146 to cancel a teleconference registration.

Submission of comments: To facilitate public participation, we are inviting public comment on the six themes described below. Comments must be submitted in writing no later than February 4, 2019, must be identified by Docket No. USCBP-2018-0045, and may be submitted by one (1) of the following methods:

• Federal eRulemaking Portal: http://www.regulations.gov. Follow the instructions for submitting comments.

• Email: 21CCF@cbp.dhs.gov. Include the docket number (USCBP-2018-0045) in the subject line of the message.

• Mail: Mr. Brandon Lord, Office of Trade, U.S. Customs and Border Protection, 1331 Pennsylvania Avenue NW, Suite 950N, Washington, DC 20229.

Instructions: All submissions received must include the words “Department of Homeland Security” and the docket number (USCBP-2018-0045) for this action. If you wish to give a public statement in-person during the meeting, please do not send your comments through the Federal eRulemaking portal as certain identification information is required for CBP to contact you, and all comments sent to the portal will be posted without change. Please do not submit personal information to the Federal eRulemaking portal. For those who wish to give a public statement in-person during the meeting, please send your comments to the email or mail address above, indicate your interest in speaking and include the following information: First and last name; title/position; phone number; email address; name and type of organization; and identify the theme you will speak to (each individual will be limited to one public statement on one theme). CBP will then post your comment on the docket without the personal information.

Docket: For access to the docket or to read background documents or comments, go to http://www.regulations.gov and search for Docket Number USCBP-2018-0045. To submit a comment, click the “Comment Now!” button located on the top-right hand side of the docket page.

FOR FURTHER INFORMATION CONTACT: Mr. Brandon Lord, Office of Trade, U.S. Customs and Border Protection, 1331 Pennsylvania Avenue NW, Suite 950N, Washington, DC 20229; telephone (202) 325-6432 or email 21CCF@cbp.dhs.gov.

SUPPLEMENTARY INFORMATION:

21st Century Customs Framework Initiative Overview

CBP is cognizant of the need to stay modern in order to meet the challenges of an evolving trade landscape. New actors, industries, and modes of conducting business have emerged, disrupting the traditional global supply chain. To continue to effectively fulfill CBP's mission, CBP is pursuing an initiative titled “The 21st Century Customs Framework.” “The 21st Century Customs Framework” will seek to address and enhance numerous aspects of CBP's trade mission to better position the agency to operate in the 21st century trade environment. Through preliminary efforts, CBP has identified key themes for which CBP seeks public input: (1) Emerging Roles in the Global Supply Chain; (2) Intelligent Enforcement; (3) Cutting-Edge Technology; (4) Data Access and Sharing; (5) 21st Century Processes; and (6) Self-Funded Customs Infrastructure. Brief descriptions of each theme are provided in this document along with the request for public comments on questions posed by CBP related to each theme.

Members of the public who wish to provide a public statement should follow the instructions under the Addresses section. Due to time and content considerations, it is possible that not all persons who express an interest in making a public statement will be able to do so. Speakers will be selected based on time considerations and to ensure the panel receives diverse, individual perspectives. CBP will begin selecting and contacting individuals to deliver public statements starting no earlier than February 11, 2019. Members of the public may submit as many written comments as they wish; however, any commenter who is selected to provide a public statement will be limited to one timeslot addressing one theme.

Agenda

21st Century Customs Framework Public Meeting

9:00 a.m.-5:00 p.m.—Public Statements and Open Public Comment on Themes

As described above, members of the public may submit as many written comments as they wish; however, any one individual will be selected for only one public statement theme and timeslot.

(1) Emerging Roles in the Global Supply Chain

Due to technological advances and new modes of conducting business, the modern international trade environment is marked by emerging actors and dynamic supply chains. CBP's traditional legal frameworks were developed to primarily reflect containerized shipments and the supply chain to support such shipments, as opposed to small packages and business models built around e-commerce. CBP is seeking to ensure that all parties in the modern supply chain are aware of their responsibilities to promote safety and compliance, while still enabling legitimate trade and economic prosperity.

Public Comment Questions

• What new roles in the global supply chain are unaccounted for in CBP's current legal framework? How should the agency account for these roles?

• How can CBP work with e-commerce platforms and carriers to identify and deter illicit shipments?

• How can new actors in the global supply chain work with CBP to improve trade security?

(2) Intelligent Enforcement

CBP's efforts on intelligent enforcement are anchored on further improving risk management and the impact of efforts to detect high-risk activity, deter non-compliance and disrupt fraudulent behavior—all in the interest of enforcing U.S. trade laws to protect America's economic security. CBP's intelligent enforcement efforts include exploring how to better utilize technology, big data, and predictive analytics to drive decision-making.

Public Comment Questions

• What technologies are useful in predicting violative activities and an entity's potential for violations?

• What tools or sources of information regarding CBP's compliance requirements have you found the most useful? What other resources can CBP provide to ensure that trade stakeholders understand CBP requirements?

• How can CBP improve violation referral systems and allegation processing?

(3) Cutting-Edge Technology

One of the defining features of the modern trade environment is the rapid emergence of new technology. CBP is exploring the use of new technologies to improve trade facilitation and trade enforcement activities.

Public Comment Questions

• What emerging technologies are most important for CBP to monitor or adopt?

• What technologies are being adopted by the private sector that are incompatible with CBP's current legal or policy frameworks?

• What technologies on the horizon have the potential to be a disruptive force (enabling or challenging) within the trade ecosystem?

(4) Data Access and Sharing

The volume and types of data and the speed at which the data can be transmitted create a valuable opportunity for CBP and trade stakeholders. CBP is examining how more efficient data sharing can improve trade facilitation and trade enforcement. At the same time, CBP is looking at ways to reduce the duplication or unnecessary capture of data.

Public Comment Questions

• What data would you like CBP to share with importers, and vice versa, to improve trade facilitation and enforcement?

• How can CBP's overall data sharing with trade stakeholders be improved?

(5) 21st Century Trade Processes

CBP will be refining certain import processes to reflect the modern trade environment, improve the experience of importers, brokers, and other important actors in the supply chain, and increase overall efficiency. CBP is placing a focus on processes that may be overly burdensome or outdated.

Public Comment Questions

• What specific import procedures or requirements can be improved or refined, and how?

• What are some international best practices (i.e., processes used by other customs agencies) that CBP should examine?

(6) Self-Funded Customs Infrastructure *

* There will be no in-person statements related to this theme.

New requirements affecting CBP, Partner Government Agencies (PGA), and trade industry will necessitate updates to the Automated Commercial Environment (ACE) outside of reoccurring maintenance. CBP is examining avenues to ensure that the ACE has a consistent stream of funding for enhancements and new functionalities.

Public Comment Questions

• Outside of the annual Congressional appropriations cycle, what mechanisms should CBP explore for consistent and timely funding for ACE enhancements?

• How could the fee collection process be streamlined, improved, or redesigned to more directly fund ACE enhancements?

Dated: December 18, 2018.
Brenda B. Smith,
Executive Assistant Commissioner, Office of Trade.

[FR Doc. 2018-27716 Filed 12-20-18; 8:45 am]

BILLING CODE 9111-14-P